DEPARTMENT OF THE TREASURY

Submission for OMB Review; Comment Request

April 24, 2014.

The Department of the Treasury will submit the following information collection requests to the Office of Management and Budget (OMB) for review and clearance in accordance with the Paperwork Reduction Act of 1995, Public Law 104-13, on or after the date of publication of this notice.

DATES: Comments should be received on or before May 29, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Internal Revenue Service (IRS)

OMB Number: 1545-1361.

Type of Review: Revision of a currently approved collection.

Title: 26 CFR Part 52—Environmental Taxes

Abstract: Section 4681 imposes a tax on ozone-depleting chemicals sold or used by a manufacturer or importer thereof. Section 4681 also imposes a tax on ozone-depleting chemicals sold or used by a manufacturer or importer thereof and imported taxable products sold or used by an importer thereof. A floor stocks tax is also imposed. Section 4682 provides exemptions and reduced rates of tax for certain uses of ozone-depleting chemicals. These regulations provide reporting and recordkeeping rules.

Affected Public: Private Sector: Businesses or other for-profits.

Estimated Burden Hours: 75,250.

OMB Number: 1545-1774.

Type of Review: Extension without change of a currently approved collection.

Title: TD 9187—Extensions of Time to Elect Method for Determining Allowable Loss.

Abstract: The information is necessary to allow the taxpayer to make certain elections to determine the amount of allowable loss under Sec. 1.337(d)-2, Sec. 1.1502-20 as currently in effect or under Sec. 1.1502-20 as modified; to allow the taxpayer to waive loss carryovers up to the amount of the Sec. 1.150-20(g) election and to ensure that loss is not disallowed under Sec. 1.337(d)-2 and basis is not reduced under Sec. 1.337(d)-2 to the extent the taxpayer establishes that the loss or basis is not attributable to the recognition of built in gain on the disposition of an asset.

Affected Public: Private Sector: Businesses or other for-profits.

Estimated Annual Burden Hours: 36,720.

OMB Number: 1545-1821.

Type of Review: Extension without change of a currently approved collection.

Title: TD 9327—Disclosure of Returns and Return Information in Connection with Written Contracts or Agreements for the Acquisition of Property and Services for Tax Administration (REG-148867-03).

Abstract: Section 301.6103 (n)-1(d) Notification requirements: Any person, or agent or subcontractor of the person, who receives returns or return information under this section shall provide written notice to his, her, or its officers and employees receiving the returns or return information that returns or return information disclosed to the officer or employee may be used only for a purpose and to the extent authorized by this section; and Further inspection or disclosure of any returns or return information for a purpose or to an extent not authorized by this section constitutes a misdemeanor, punishable upon conviction by a fine or imprisonment. Section 301.6103(n)-1(e)(3) Safeguard of the regulations require that before the execution of a contract or agreement for the acquisition of property or services under which returns or return information will be disclosed, the contract or agreement must be made available to the IRS.

Affected Public: Private Sector: Businesses or other for-profits.

Estimated Annual Burden Hours: 250.

OMB Number: 1545-1898.

Type of Review: Extension without change of a currently approved collection.

Title: Revenue Procedure 2004-47, Simplified Alternate Procedure for Making Late Reverse QTIP Election.

Abstract: This revenue procedure provides a simplified alternate procedure (in lieu of requesting a letter ruling) for certain executors of estates and trustees of trusts to request relief to make a late reverse qualified terminable interest property (QTIP) election under section 2652 of the Code.

Affected Public: Individuals or Households.

Estimated Annual Burden Hours: 54.

Dawn D. Wolfgang,
Treasury PRA Clearance Officer.

[FR Doc. 2014-09686 Filed 4-28-14; 8:45 am]

BILLING CODE 4810-35-P